COMMISSION ON CIVIL RIGHTS

Notice of Public Meeting of the Louisana Advisory Committee to the U.S. Commission on Civil Rights

AGENCY: U.S. Commission on Civil Rights.

ACTION: Notice of virtual meetings.

SUMMARY: Notice is hereby given, pursuant to the provisions of the rules and regulations of the U.S. Commission on Civil Rights (Commission) and the Federal Advisory Committee Act, that the Louisiana Advisory Committee (Committee) to the U.S. Commission on Civil Rights will hold a public meetings via Zoom. The purpose of this meeting is for the Committee to review and discuss a project proposal regarding involuntary mental health commitments in Louisiana.

DATES: Tuesday, July 15, 2025, from 2:00 p.m.-3:00 p.m. Central Time.

ADDRESSES: This meeting will be held via Zoom.

• Registration Link (Audio/Visual): https://www.zoomgov.com/webLinar/register/WN_yIj6XoMgT0KJt6y0oWsWLg.

FOR FURTHER INFORMATION CONTACT: Melissa Wojnaroski, Designated Federal Officer, at mwojnaroski@usccr.gov or 1-202-618-4158.

SUPPLEMENTARY INFORMATION: This meeting is available to the public through the registration link above. Any interested members of the public may attend. An open comment period will be provided to allow members of the public to make oral statements as time allows. Pursuant to the Federal Advisory Committee Act, public minutes of the meeting will include a list of persons who are present at these meetings. If joining via phone, callers can expect to incur regular charges for calls they initiate over wireless lines, according to their wireless plan. The Commission will not refund any incurred charges. Callers will incur no charge for calls they initiate over land-line connections to the toll-free telephone number. Closed captioning is available by selecting “CC” in the meeting platform. To request additional accommodations, please email csanders@usccr.gov at least 10 business days prior to each meeting.

Members of the public are entitled to submit written comments; the comments must be received in the regional office within 30 days following the scheduled meeting. Written comments may be emailed to Melissa Wojnaroski at mwojnaroski@usccr.gov. Persons who desire additional information may contact the Regional Programs Coordination Unit at 1-202-618-4158.

Records generated from these meetings may be inspected and reproduced at the Regional Programs Coordination Unit Office, as they become available, both before and after each meeting. Records of the meetings will be available via www.facadatabase.gov under the Commission on Civil Rights, Louisiana Advisory Committee link. Persons interested in the work of this Committee are directed to the Commission's website, http://www.usccr.gov, or may contact the Regional Programs Coordination Unit at csanders@usccr.gov.

Agenda

I. Welcome and Roll Call

II. Announcements & Updates

III. Committee Discussion

IV. Next Steps

V. Public Comment

VI. Adjournment

Dated: June 5, 2025.
David Mussatt,
Supervisory Chief, Regional Programs Unit.

[FR Doc. 2025-10520 Filed 6-10-25; 8:45 am]

BILLING CODE 6335-01-P